DEPARTMENT OF DEFENSE

Office of the Secretary

32 CFR Part 88

[Docket ID: DOD-2013-OS-0236]

RIN 0790-AJ17

Transition Assistance Program (TAP) for Military Personnel

AGENCY: Under Secretary of Defense for Personnel and Readiness, DoD.

ACTION: Interim final rule.

SUMMARY: This rule establishes policy, assigns responsibilities, and prescribes procedures for administration of the DoD Transition Assistance Program (TAP). The goal of TAP is to prepare all eligible members of the Military Services for a transition to civilian life, including preparing them to meet Career Readiness Standards (CRS). The TAP provides information and training to ensure Service members leaving Active Duty and eligible Reserve Component Service members being released from active duty are prepared for their next step in life whether pursuing additional education, finding a job in the public or private sector, starting their own business or other form of self-employment, or returning to school or an existing job. Service members receive training to meet CRS through the Transition GPS (Goals, Plans, Success) curricula, including a core curricula and individual tracks focused on Accessing Higher Education, Career Technical Training, and Entrepreneurship.

All Service members who are separating, retiring, or being released from a period of 180 days or more of continuous Active Duty must complete all mandatory requirements of the Veterans Opportunity to Work (VOW) Act, which includes pre-separation counseling to develop an Individual Transition Plan (ITP) and identify their career planning needs; attend the Department of Veterans Affairs (VA) Benefits Briefings I and II to understand what VA benefits the Service member earned, how to apply for them, and leverage them for a positive economic outcome; and attend the Department of Labor Employment Workshop (DOLEW), which focuses on the mechanics of resume writing, networking, job search skills, interview skills, and labor market research.

DATES: Effective date: This rule is effective February 3, 2016.

Comment date: Comments must be received by January 14, 2016.

ADDRESSES: You may submit comments, identified by docket number and/or Regulatory Information Number (RIN) number and title, by any of the following methods:

• Federal Rulemaking Portal: http://www.regulations.gov; or

• Mail: Department of Defense, Office of the Deputy Chief Management Officer, Directorate for Oversight and Compliance, Regulatory and Audit Matters Office, 9010 Defense Pentagon, Washington, DC 20301-9010.

*Instructions for submitting comments: All submissions received must include the agency name and docket number or RIN for this Federal Register rule. The general policy for comments and other submissions from members of the public is to make these submissions available for public viewing on the Internet at http://www.regulations.gov as they are received without change, including any personal identifiers or contact information.

FOR FURTHER INFORMATION CONTACT: Ron Horne, 703-614-8641.

SUPPLEMENTARY INFORMATION: The DoD is committed to providing military personnel from across the Services access to the TAP. The TAP prepares all eligible members of the Military Services for a transition to civilian life; enables eligible Service members to meet the CRS as required by this rule; and is the overarching program that provides transition assistance, information, training, and services to eligible transitioning Service members to prepare them to be career ready when they transition back to civilian life.

Spouses of eligible Service members are entitled to the DOLEW, job placement counseling, DoD/VA-administered survivor information, financial planning assistance, transition plan assistance, VA-administered home loan services, housing assistance benefits information, and counseling on responsible borrowing practices. Dependents of eligible Service members are entitled to career change counseling and information on suicide prevention.

These revisions will:

• Institutionalize the implementation of the VOW Act of 2011,

• require mandatory participation in the Department of Labor (DOL) Employment Workshop (EW),

• implement the Transition GPS (Goals, Plans, Success) curriculum,

• require development of an Individual Transition Plan (ITP),

• enhance tracking of attendance at TAP events,

• implement of mandatory Career Readiness Standards (CRS) for separating Service members, and

• incorporate a CAPSTONE event to document transition readiness and reinforce Commanding Officer accountability and support for the needs of individual Service members.

This rule improves the process of conducting transition services for eligible separating Service members across the Military Services and establishes the data collection foundation to build short-, medium-, and long-term program outcomes.

In August 2011, President Obama announced his comprehensive plan to ensure America's Post 9/11 Veterans have the support they need and deserve when they leave the military, look for a job, and enter the civilian workforce. A key part of the President's plan was his call for a “career-ready military.” Specifically, he directed DoD and Department of Veterans Affairs (VA) to work closely with other federal agencies and the President's economic and domestic policy teams to lead a Veterans Employment Initiative Task Force to develop a new training and services delivery model to help strengthen the transition readiness of Service members from military to civilian life.Shortly thereafter, Congress passed and the President signed the “VOW to Hire Heroes Act of 2011,” Public Law 112-56, 201-265, 125 Stat. 715 (“VOW Act”), which included steps to improve the existing TAP for Service members. Among other things, the “VOW Act” made participation in several components of TAP mandatory for all Service members (except in certain limited circumstances).

The task force delivered its initial recommendations to the President in December 2011 which required implementation of procedures to document Service member participation, and to demonstrate Military Service compliance with 10 U.S.C. Chapter 58 requirements. The Veterans Opportunity to Work (VOW) Act of 2011 mandated transitioning Service members participation in receiving counseling and training on VA Benefits. VA developed VA Benefits I and II Briefings to meet this mandate. The VOW Act also mandated transitioning Service members to received counseling and informed of services regarding employment assistance. The Department of Labor revised it's curriculum to meet this mandate with the Department of Labor Employment Workshop. The VOW requirements have been codified in 10 U.S.C. Chapter 58 and attendance to all Transition GPS curricula is now documented.

The redesigned TAP was developed around four core recommendations:

Adopt standards of career readiness for transitioning Service members. Service members should leave the military having met clearly defined standards of career readiness.

Implement a revamped TAP curriculum. Service members should be provided with a set of value-added, individually tailored training programs and services to equip them with the set of tools they need to pursue their post-military goals successfully.

Implement a “CAPSTONE”. Service members should be afforded the opportunity, shortly before they depart the military, to review and verify that they have met the CRS and received the services they desire and to be steered to the resources and benefits available to them as Veterans.

Implement a “Military Life Cycle” (MLC) transition model. Transition preparation for Service members should occur over the entire span of their military careers—not just in the last few months of their military service.

Implementation of these recommendations transforms a Service member' experience during separating, retiring, demobilizing, or deactivating to make the most informed career decisions by equipping them with the tools they need to make a successful transition.

The rule discusses a redesigned program which implements, the transition-related provisions of the “VOW Act” and recommendations of the Task Force to offer a tailored curriculum providing Service members with useful and quality instruction with connections to the benefits and resources available to them as Veterans. At the heart of the redesign is the new set of CRS. Just as Service members must meet military mission readiness standards while on Active Duty, Service members will meet CRS before their transition to civilian life.

Spouses of eligible Service members are entitled to the DOLEW, job placement counseling, DoD/VA-administered survivor information, financial planning assistance, transition plan assistance, VA-administered home loan services, housing assistance benefits information, and counseling on responsible borrowing practices. Dependents of eligible service members are entitled to career change counseling and information on suicide prevention.

Regulatory Impact Analysis

As part of the regulatory process, DOD is required to develop a regulatory impact analysis (RIA) for rules with costs or benefits exceeding $100 annually. DOD estimates implementation of this interim rule for the Department will have a cost of approximately $100M or more annually starting in 2016. DoD assumes that the annual outlays will continue.

I. Alternatives Analysis

In President Obama's speech in August of 2011 at the Washington Navy Yard, he used the term `Reverse Boot Camp' to demonstrate his vision for a redesigned TAP to increase the preparedness of Service members to successfully transition from military service to civilian communities. The President's use of language initiated an interagency discussion on an approach to mirror the Military Services' “basic or initial entry training” programs. This approach would require the Military Services to devote approximately 9 to 13 weeks, depending on curriculum development, outcome measures, assessments and individual military readiness and cultural differences, to afford Service members the opportunity to use all aspects of a rigorous transition preparation program.

While no cost estimates were conducted, this approach was deemed both expensive and would jeopardize DoD's ability to maintain mission readiness. Approximately 200,000-250,000 Service members leave DOD each year. To concentrate on transition preparation during the last 9 to 13 weeks of an individual's military career would not be workable since mission readiness could not absorb the impact of the void. Additionally, there would be a an increased expense required to activate or mobilize Reserve Component or National Guard personnel for the nine to 13 weeks prior to transition. Finally, logistical challenges could result from Service members dealing with TAP requirements while deployed. For example, units scheduled to mobilize would be delayed because a returning unit could occupy facilities (such as billeting, classrooms, and training areas) that the deploying units needed to train and prepare for mobilization.

A second alternative considered was establishment of regional residential transition centers staffed by personnel from all Military Services, the Departments of VA, Labor (DoL), and Homeland Security (U.S. Coast Guard), the U.S. Small Business Administration (SBA), and the OPM. Transitioning Service members would be sent on temporary duty for a period of four to six weeks, 12 months prior to their separation or retirement date to receive transition services. Eligible Reserve Component Service members would be assigned to the centers as a continuation of their demobilization out-processing. The potential costs to build or modify existing facilities, or rent facilities that would meet regional residential transition center requirements, as well as costs for Service member travel to and from the regional centers, reduced the viability of this approach.

A third, less expensive option would have left the existing TAP program intact without increasing counselor and curriculum facilitation resources. This option would not have accountability systems and procedures to demonstrate compliance with the “VOW Act” that mandates preseparation counseling, attendance at the DOL's three day Employment Workshop (DOLEW), and attendance at two VA briefings. Due to increasing Veteran unemployment and homeless percentages at the time of the decision, and the rebalancing of the military force, this cost neutral approach would not have the outcome-based capability intended to develop career ready skills in transitioning Service members. This option, which would not have met the requirements of the law, would cost the Military Services approximately $70M versus the fiscal year 2013 (FY13) $122M for the implementation of the re-designed TAP.

II. Anticipated Costs and Benefits

The “VOW Act” mandated preseparation counseling, VA Benefits Briefings I and II, and the DOLEW and these components were implemented in November 2012. On the same day, the “VOW Act” requirements became mandatory; DoD published a policy to make CRS and Commanding Officer verification that Service members are meeting CRS, mandatory. “Vow Act” compliance and CRS must be met by all Service members after they have served 180 days in active duty status. Service members must attend Transition GPS (Goals, Plans, Success) curriculum modules that build career readiness if they cannot meet the CRS on their own. In cases where Service members receive a punitive or Under Other Than Honorable Conditions discharge, Commanding Officers have the discretion of determining participation in the other than mandatory Transition GPS curricula. By policy, all Service members who do not meet the CRS will receive a warm handover to DOL, VA, or other resources targeted at improving career readiness in the area where the standard was not met.

The entire Transition GPS curriculum is now available online through Joint Knowledge Online (JKO); however, Service members must attend preseparation counseling, VA briefings, and the DOLEW in person. All other curriculum can be accessed through the JKO virtual platform. The virtual curriculum (VC) was launched at the beginning of FY14. DoD expected a cost savings in FY14 due to use of the VC but the cost avoidance cannot be calculated, as VC utilization is appropriate on a Service member-by-Service member basis.

Further, resource requirements for DoD become more predictable when transition assistance is provided at pre-determined points throughout the MLC TAP model, mitigating the impacts of “surge” periods when large numbers of Service members separate, demobilize or deactivate. The FY13 cost to DoD to implement the TAP redesign was $122M and in FY14 DoD costs were $85M. The difference is attributed to both implementation costs of the updated program in FY13 and to efficiencies discovered as implementation was completed throughout FY14. These costs represent only the portion of the interagency program that is paid by the DoD. The cost covers Defense civilian and contracted staff (FTEs) salaries and benefits at 206 world-wide locations. Civilian and contract labor account for approximately 88% of total program costs in both fiscal years. The remaining costs include equipment, computers (purchase, maintenance and operations), Information Technology (IT) and architecture, data collection and sharing, Web site development, performance evaluation and assessments, curriculum development and modifications, materials (audio-visual, CDs, eNotebooks, handouts, interactive brick and mortar classroom sessions, virtual curriculum, etc.), facilitation training, research, studies, and surveys. Within DoD, the re-designed TAP capitalized upon existing resources, e.g., use of certified financial planners housed in the Military Services' family centers to conduct financial planning or military education counselors used to conduct the Accessing Higher Education (AHE) track. Other efficiencies include reuse or upgrades to current facilities and classrooms used to deliver legacy TAP. Implementation costs in FY13 included equipping classrooms to allow individual internet access and train-the-trainer workshops to deliver the DoD portions of the Transition GPS curriculum. Examples of efficiencies discovered in FY14 include providing train-the-trainer courses through webinars and savings associated with Service members using the VC.

The DoD provides military spouses the statutory requirements of TAP as prescribed in Title 10, United States Code. Other elements of TAP, prescribed by DoD policy, are available to spouses if resources and space permits. Military spouses can attend the “brick and mortar” Transition GPS curriculum at no cost on a nearby military installation. They can also take the entire Transition GPS curriculum online, virtually, at any time, from anywhere with a computer or laptop for free.

Many of our Veteran and Military Service Organizations, employers and local communities provide transition support services to local installations. Installation Commanders are strongly encouraged to permit access to Veteran Service Organizations (VSOs) and Military Service Organizations (MSOs) to provide transition assistance-related events and activities in the United States and abroad at no cost to the government. Two memos signed by Secretary of Defense Chuck Hagel reinforce such access. The memos are effective within 60 days of the December 23 signing, and will remain in effect until the changes are codified within DoD.¹ Access to installations is for the purpose of assisting Service members with their post-military disability process and transition resources and services. The costs to VSOs and MSOs would be any costs associated with salaries for paid VSO and MSO personnel. These organizations will pay for any costs associated with travel to and from military installations, as well as any materials they provide to separating Service members and their spouses. Costs to employers and community organizations supporting transition-related events and activities would be similar to those for VSOs and MSOs.

¹ DoD Memos signed 12/23/2014. “Installation Access and Support Services to VA-Recognized Veteran Service Organizations/Military Service Organizations” and “Installation Access and Support Services for Nonprofit Non-Federal Entities.”

The DoD is dependent upon other federal agencies to deliver the redesigned TAP to transitioning Service members. The VA, DOL, SBA, Department of Education (ED), and Office of Personnel Management (OPM) have proven to be invaluable partners in supporting the Transition GPS curriculum development and delivery, and in providing follow-on services required by a warm handover due to unmet CRS. These interagency partners strongly support TAP governance and performance measurement.

Although DoD cannot estimate the costs for its interagency partners, TAP provides the Service members with resources through the contributions of its interagency partners that should be identified as factors of total program cost. Transition assistance is a comprehensive interagency effort with contributions from every partner leveraged to provide support to the All-Volunteer Force as the Service members prepare to become Veterans. The interagency partners deliver the Transition GPS curriculum and one-on-one services across 206 military installations across the globe. DoD can only speak to TAP costs within the Defense fence line, but can discuss the value provided by interagency partners.

The DOL provides skilled facilitators that deliver the DOLEW, a mandatory element of the Transition GPS standardized curriculum. DOL's American Jobs Centers (AJCs) provide integral employment support to transitioning Service members and transitioned Veterans. The AJCs are identified as resources for the Service members during TAP, which may increase visits from the informed Service members. The AJCs also support warm handovers of Service members who have identified employment as a transition goal on their ITP but do not meet the CRS for employment. DOL also provides input to the TAP interagency working groups and governance boards, and is involved in the data collection, performance measurement, and standardization efforts, all of which represent costs to the organization.

The SBA provides the Transition GPS entrepreneurship track, Boots to Business, to educate transitioning Service members interested in starting their own business about the challenges small businesses face. Upon completing the Boots to Business track, the SBA allows Service members to access the SBA on-line entrepreneurship course, free of charge. The SBA then provides Service members the opportunity to be matched to a successful businessperson as a mentor. This is a tremendous commitment that must create additional costs for the SBA. The SBA offices continue to provide support to Veterans as they pursue business plan development or start up loans; provision of this support is in their charter, but the increased awareness provided through the Transition GPS curriculum is likely to increase the patronage and represent a cost to SBA. The SBA also provides input to the TAP interagency working groups and governance boards. The SBA is engaged with data collection and sharing efforts to determine program outcomes.

VA provides facilitators who deliver the mandatory VA Benefits Briefings I and II as part of the Transition GPS standardized curriculum required to meet “VOW Act” requirements. The VA facilitators also deliver the two-day track for Career Technical Training that provides instruction to Service members to discern the best choices of career technical training institutions, financial aid, best use of the Post 9/11 GI Bill, etc. Benefits counselors deliver one-on-one benefits counseling on installations, as space permits. As a primary resource for Veterans, VA ensures benefits counselors are able to accept warm handovers of transitioning Service members who do not meet CRS and require VA assistance post separation. The VA hosts a web portal for connectivity between employers and transitioning Service members, Veterans and their families. VA provides input to the TAP interagency working groups and governance boards, and is involved in the data collection and sharing efforts to determine program outcomes, all of which represent costs to the organization.

ED serves a unique and highly valued role in the interagency partnership by ensuring the entire curriculum, both in classroom and virtual platform delivery, is based on adult learning principles. Their consultative role, tapped daily by the interagency partners, is critical to a quality TAP. ED also provides input to the TAP interagency working groups and governance boards and keeps a keen eye toward meaningful TAP outcomes, all of which represent costs to the organization.

The OPM contributes federal employment information and resources to the DOLEW, and enables the connectivity between the VA's Web portal and USA Jobs Web sites. The OPM also provides input to the TAP interagency working groups and governance boards and contributes to performance measures.

The costs to DoD's interagency partners were not calculated; implementation of this rule was mandated by the “Vow Act” and costs for all parties are already incurred. The calculated costs to DoD and unmeasured costs to DoD's interagency partners provide significant resources to Service members resulting in benefits to the Nation.

The benefits of the redesigned TAP to the Service members are increased career readiness to obtain employment, start their own business or enter career technical training or an institution of higher learning at the point of separation from military service. The legacy, end-of-career TAP is replaced by pre-determined opportunities across the MLC for many transition-related activities to be completed during the normal course of business. Since a direct economic estimate of the value of TAP is difficult for DoD to demonstrate as it would require collection of information from military personnel after they become private citizens, the value of the TAP can be derived by demonstrating qualitatively how Service members value the program and then displaying some changes in economic variables that can be differentiated between Veterans who have access to TAP and non-Veterans who do not have access to the program.

—According to one independent evaluation of the TAP, Service members who had participated in the TAP had, on average, found their first post-military job three weeks sooner than those who did not participate in the TAP.²

² Source: Veterans Employment and Training Service (DOL VETS) VETS Fact Sheet 1: Transition Assistance Program.

—An independent survey asked Soldiers who had used the TAP their opinions about the curriculum. The Soldiers reported positive opinions about the usefulness of the TAP. 90% of the Soldiers felt that it was a useful resource in searching for employment and 88% of them would recommend the TAP to a colleague.³

³ Source: Faurer, J., Rogers-Brodersen, A. and Bailie, P. (2014). Managing the Re-employment of Military Veterans through the Transition Assistance Program (TAP). Journal of Business and Economics. 12 (1), 55-60.

According to a curriculum assessment completed at the end of each TAP module, transitioning Service members gave the TAP positive reviews on its usefulness for their job search:

—92% of reported that they found the learning resources useful, including notes, handouts, and audio-visuals.

—83% reported that the modules enhanced their confidence in their own transition planning.

—81% reported that they now know how to access the necessary resources to find answers to transition questions that may arise in the next several months.

—79% said that the TAP was beneficial in helping them gain the information and skills they needed better to plan their transition.

—79% said that they will use what they learned from the TAP in their own transition planning.⁴

⁴ Source: Statement of Dr. Susan Kelly Before the House Veterans Affairs Committee Subcommittee on Economic Opportunity (September 17, 2014).

—A comparison of unemployment insurance usage suggests that recently separated members of the military (2013 & 2014) were more likely to apply what they learned in the re-designed TAP and were more involved earlier in job training programs than unemployed claimants who did not have military experience (8.5% of UCX claimants versus 5.1% of Military service claimants).⁵

⁵ Source: Paul Heaton, RAND Corporation, Why is Veteran Unemployment So High?

—According to the Bureau of Labor Statistics, the unemployment rate for Veterans of the current conflict declined by 1.8 percentage points from August 2013 to August 2014 coinciding with the time period when all Service members were required to take the re-designed TAP.⁶

⁶ Source: Bureau of Labor Statistics, Employment Situation of Veterans, 2014. (March 18, 2015).

The TAP also helps mitigate the adjustment costs associated with labor market transition. Military members must prepare for the adjustments associated with losing military benefits (e.g. housing, health care, child care) to the benefits afforded in private sector or nonmilitary public sector jobs. The TAP addresses this very important aspect based on a regulatory mandate that they attend both the DOLEW and the VA's Veterans Benefits Briefings, and complete a 12-month post-separation financial plan to meet CRS.

The early alignment of military skills with civilian workforce demands and deliberate planning for transition throughout a Service member's career sets the stage for a well-timed flow of Service members to our Nation's labor force. Employers state that transitioning Service members have critical job-related skills, competencies, and qualities including the ability to learn new skills, strong leadership qualities, flexibility to work well in teams or independently, ability to set and achieve goals, recognition of problems and implementation of solutions, and ability to persevere in the face of obstacles. However, application of these skills and attributes must be translated into employer friendly language. The TAP addresses these issues. The VA web portal supports providing private and public sector employers with a direct link to profiles and resumes of separating Service members where employers can recruit from this talent pipeline.

The rule benefits communities across the country. Civilian communities receive more educated, better-trained and more prepared citizens when separating Service members return to communities as Veterans. Service members learn to align their military skills with civilian employment opportunities, which enables the pool of highly trained, adaptable, transitioning Service members a more timely integration into the civilian workforce and local economies. Service members also learn through TAP about the rich suite of resources available to them from the interagency partners and have, for the asking, one-on-one appointments with interagency partner staff, who can provide assistance to Service members and their families both before and after the Service member leaves active duty. More specifically, the components of the mandatory CRS target deliberate planning for financial preparedness as well as employment, education, housing and transportation plans and, for those Service members with families, childcare, schools, and spouse employment. The DoD and interagency partners incorporated the warm handover requirement for any transitioning Service member who does not meet the CRS. The warm handover is meant to serve as an immediate bridge from DoD to the federal partners' staffs, which are committed to providing needed support, resources and services to Service members post separation in the communities to which the Service members are returning. The intention is to provide early intervention before Veterans encounter the challenges currently identified by some communities, e.g., financial struggles, unemployment, lack of social supports that can spiral down into homelessness, risk taking behaviors, etc. Families and communities benefit.

The Task Force established expectations for program performance measures and outcomes. The redesigned TAP Interagency Executive Council and Senior Steering Group laid the preliminary groundwork to measure long-term program outcomes. While DoD is statutorily limited to measure outcomes while Service members are active duty, DoD performance measures are intended to demonstrate outcomes of the TAP redesign within DoD. These include the verified number of Service members separated from active duty who meet “VOW Act” mandates and who meet CRS prior to separation. At the end of fiscal year 2014, 76.4% of separated Active Duty members met “VOW Act” requirements and 84% met CRS.

These measures set the stage for future long-term measures when transitioning Service members become Veterans. The DoD's TAP Information Technology (IT) architecture and data collection processes enable future data sharing with our Federal partners to show program effectiveness. The DoD requires the interagency support of its partners to further develop and collect data to define a relationship between TAP attendance, “VOW Act” compliance and CRS and long-term outcome measures, e.g. optimal use of Post 9/11 GI Bill benefits and long-term earnings of Post 9/11 Veterans.

Justification for Interim Final Rule

The provisions of the Administrative Procedure Act (APA) 5 U.S.C. 553 requiring notice and public comment are inapplicable because this rule involves a military function of the United States (5 U.S.C. 553(a)(1)) since it addresses the training and transitioning of military members to civilian life. Nonetheless, DOD is providing the public with an opportunity to review and comment on this rule because it is being published to redesign the two decades-old program and make Post 9/11 transitioning Service members career ready. This redesign requires an unprecedented interagency commitment of staffing, programs, and resources across 206 military installations as well as a culture change within DoD. Timely and full execution of the redesign is of significant Congressional interest with three hearings already conducted and more scheduled in the coming months. In the last of four reports to the White House, The Military Life Cycle Transition Assistance Program (MLC TAP) Implementation Plan, the Military Departments stated one of the barriers and risks for implementing the redesigned TAP is the lack of a signed policy from DoD. DoD's interagency partners' budgets and resources are best estimates, pending the issuance of this rule which DOD's partners are required to support. The Military Services are hindered in submitting accurate Program Objective Memorandums (POMs) unless official DoD policy is in place to support their resource and funding requirements.

Retrospective Review

This rule is part of DoD's retrospective plan, completed in August 2011, under Executive Order 13563, “Improving Regulation and Regulatory Review.” DoD's full plan and updates can be accessed at http://www.regulations.gov/#!docketDetail;dct=FR+PR+N+O+SR;rpp=10;po=0;D=DOD-2011-OS-0036. As required by Executive Order (EO) 13563, DoD intends to conduct periodic reviews along with its partner agencies to modify, or repeal, aspects, as appropriate, and after public notice and comment. DOD expects to conduct a review no later than five years from the publication of this interim rule. With regard to a number of aspects of this rule, possible modifications will be considered based on public comments and related internal studies. DoD intends to synthesize and review available data on such things including new and historical information on transition assistance milestones once a member becomes a veteran. For example, how many veterans use their Post-9/11 GI Bill, how many complete a degree, how long does it take for a veteran to find employment following separation from the military? Following this, DOD may propose modifications to the current provisions of the existing rule.

Regulatory Procedures

Executive Order 12866, “Regulatory Planning and Review” and Executive Order 13563, “Improving Regulation and Regulatory Review”

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This interim final rule has been designated an “economically significant regulatory action,” under section 3(f) of Executive Order 12866. Accordingly, the rule has been reviewed by the Office of Management and Budget (OMB) under the requirements of these Executive Orders.

Congressional Review Act (5 U.S.C. 801)

Under the Congressional Review Act, a major rule may not take effect until at least 60 days after submission to Congress of a report regarding the rule. A major rule is one that would have an annual effect on the economy of $100 million or more or have certain other impacts. This interim final rule is a major rule under the Congressional Review Act.

Section 202, Public Law 104-4, “Unfunded Mandates Reform Act”

Section 202 of the Unfunded Mandates Reform Act of 1995 (UMRA) (Pub. L. 104-4) requires agencies assess anticipated costs and benefits before issuing any rule whose mandates require spending in any 1 year of $100 million in 1995 dollars, updated annually for inflation. In 2014, that threshold is approximately $141 million. This rule will not mandate any requirements for State, local, or tribal governments, nor will it affect private sector costs.

Public Law 96-354, “Regulatory Flexibility Act” (5 U.S.C. 601)

The DoD certifies that this interim final rule is not subject to the Regulatory Flexibility Act (5 U.S.C. 601) because it would not, if promulgated, have a significant economic impact on a substantial number of small entities. Therefore, the Regulatory Flexibility Act, as amended, does not require us to prepare a regulatory flexibility analysis.

Public Law 96-511, “Paperwork Reduction Act” (44 U.S.C. Chapter 35)

It has been determined that this rule does not impose reporting or recordkeeping requirements under the Paperwork Reduction Act of 1980.

Executive Order 13132, “Federalism”

Executive Order 13132 establishes certain requirements that an agency must meet when it promulgates a proposed rule (and subsequent final rule) that imposes substantial direct requirement costs on State and local governments, preempts State law, or otherwise has Federalism implications. This interim final rule will not have a substantial effect on State and local governments.

List of Subjects in 32 CFR Part 88

Employment, Military personnel.

Accordingly 32 CFR part 88 is revised to read as follows:

PART 88—TRANSITION ASSISTANCE PROGRAM (TAP) FOR MILITARY PERSONNEL

Sec.
88.1 Purpose.
88.2 Applicability.
88.3 Definitions.
88.4 Policy.
88.5 Responsibilities.
88.6 Procedures.
Appendix A to Part 88—Career Readiness Standards
Appendix B to Part 88—MLC TAP
Appendix C to Part 88—Pre-Separation or Transition Counseling
Appendix D to Part 88—IDP and ITP
Appendix E to Part 88—Transition GPS (Goals, Plans, Success)
Appendix F to Part 88—DOLEW Exemptions
Appendix G to Part 88—Virtual Curricula
Appendix H to Part 88—Capstone
Appendix I to Part 88—Data, Information Collection, Data Sharing, and Management Portfolio

Authority: 10 U.S.C. Chapter 58.

§ 88.1 Purpose.

This part establishes policy, assigns responsibilities, and prescribes procedures for administration of the DoD TAP.

§ 88.2 Applicability.

This part:

(a) Applies to the Office of the Secretary of Defense (OSD), the Military Departments, the Office of the Chairman of the Joint Chiefs of Staff (CJCS) and the Joint Staff (JS), the Combatant Commands, the Office of the Inspector General of the Department of Defense, the Defense Agencies, the DoD Field Activities, and all other organizational entities within the DoD (referred to collectively in this part as the “DoD Components”).

(b) Does not apply to members of the Army and Air National Guard serving under 32 U.S.C. 101.

§ 88.3 Definitions.

Unless otherwise noted, these terms and their definitions are for the purpose of this part.

Active Component (AC). Defined in 10 U.S.C. 101.

Active Duty. Defined in 10 U.S.C. 101.

Active Service. Defined in 10 U.S.C. 101.

Active Status. Defined in 10 U.S.C. 101.

Brick and mortar classroom. A learning environment where participants attend a Transition Goals, Plans, Success (GPS) module in a traditional classroom facility led by an in-person instructor or facilitator.

Credentialing. The act of obtaining certificates, licensure, or other official verification of competency accepted by civilian industry or federal, State, or local authorities.

Career Readiness Standards (CRS). A set of common and specific activities and associated relevant deliverables (documentation within the last 12 months) that must be achieved to demonstrate Service members are prepared to transition effectively to pursue their personal post-separation higher education, career technical training, and civilian employment goals.

Continuum of Military Service Opportunity Counseling. Counseling that provides information to AC Service members on the procedures for and advantages of affiliating with the Selected Reserve, pursuant to 10 U.S.C. 1142.

Department of Labor (DOL) American Job Centers. American Job Centers (or AJCs) provide free help to job seekers and employers for a variety of career and employment-related needs. More than 2,500 AJCs are located throughout the United States. Priority of service applies to employment and training programs funded by the Department of Labor. Many locations have staff directly assigned to assist veterans in finding employment. Although the AJC makes assistance available to everyone looking for a job, veterans are given priority. Priority of Service for veterans at the AJC is offered to all veterans. This means that veterans are offered services before non-veterans and have priority of access to all DOL-funded employment and training programs offered at the AJC.

DOL Employment Workshop. Mandatory DOL-led workshop, which focuses on the mechanics of resume writing, networking, job search skills, interview skills, and labor market research.

DOL Gold Card. The Gold Card initiative is a joint effort of the Department of Labor's Employment and Training Administration (ETA) and the Veterans' Employment and Training Service (VETS). An eligible veteran can present the Gold Card at his/her local AJC to receive enhanced intensive services including up to six months of follow-up.

Eligible Service member. Defined in 10 U.S.C. 101.

Facilitator. A person trained or qualified as a subject matter expert to deliver appropriate components of Transition GPS. The facilitator's primary duty is presenting instruction, information, and engaging curricula to ensure Service members meet learning objectives.

Individual Development Plan (IDP). A written plan designed to meet particular goals for individual career development that is aligned with the eligible Service member's organizational and operational missions. It outlines developmental objectives with training activities (e.g., professional military education and military certifications). Service members will align the IDP effectively to make use of active duty time, experiences, training, and education towards personal long-term post-transition career goals.

Individual Transition Plan (ITP). An OSD standardized document that is created, evolves and is maintained by the Service member that provides the framework to perform detailed assessments of their personal and professional preparedness to achieve realistic career goals after separation from active duty.

Involuntary separation. A Service member is considered to be involuntarily separated if the member was involuntarily discharged or denied reenlistment under adverse or other-than-adverse conditions (e.g., force shaping) pursuant to 10 U.S.C. 1141.

ITP Checklist. An automated tool to document that Service members have met the CRS.

ITP Review. A module in the transition GPS Core Curricula where TAP staff explains the purpose, use, function, and responsibilities associated with the ITP. Eligible Service members must produce evidence of this deliverable indicating they met this CRS before separation, retirement, or release from active duty.

Job placement counseling. Transition services pursuant to 10 U.S.C. 1142 for one-on-one counseling that refines and guides spouses of eligible Service members on all facets of the job search process, to include writing resumes.

Military Occupation Code (MOC) Crosswalk. A curriculum that translates military skills, training, and experience into identification of required civilian credentialing appropriate for civilian jobs.

National Guard. Defined in 10 U.S.C. 101 and 32 U.S.C. 101.

Personal Financial Planning. A curriculum that provides Service members with skills to develop a post-separation 12-month budget. It also assists Service members in learning how to manage their own finances as civilians, both at home and in the workplace.

Recovering Service member. Defined in Department of Defense/Department of Veterans Affairs, Wounded, Ill, and Injured Senior Oversight Committee Memorandum, “Implementation of Wounded, Ill and Injured Related Standard Definitions,” December 10, 2008.

Relocation assistance. Information about the benefits and services provided by the Military Departments related to transport of household goods for transitioning Service members and their dependents and any entitlements for storage.

Reserve Component (RC). Defined in 10 U.S.C. 101 and 37 U.S.C. 101. The Reserve Corps of the Public Health Service is not eligible for TAP services.

Resilient Transitions. A module in the Transition GPS Core Curriculum that introduces participants to resources on transition-related issues, including stress management, considerations for families, support systems, value of a mentor, and special issues, that eligible Service members and their families may encounter as they prepare for a post-military life. These issues may have a significant negative impact on the transition process if overlooked. The focus of the curriculum is to connect the Service member with agencies and organizations based on the individual Service member's need for support and guidance.

Short notice separation. An unanticipated separation with 30 days or fewer before separation, retirement, or release from active duty.

TAP Coordinating Council. Individuals designated in this part to participate in updating and improving the TAP. The TAP Coordinating Council meets at least quarterly.

TAP Governance Body. A structure, established in October 2013, comprised of interagency senior leadership from the DoD, VA, DOL, Department of Homeland Security (DHS), Department of Education (ED), Small Business Administration (SBA), and the Office of Personnel Management (OPM), that steers and monitors implementation of the TAP redesign and modifies TAP, as needed, to meet the changing environment consisting of the TAP Executive Council (EC) and the Senior Steering Group (SSG). See Interagency Statement of Intent, “Transition Assistance for Separating Service Members” (available at http://prhome.defense.gov/RFM/TVPO) for a description of the TAP governance structure.

TAP interagency parties. By law, Federal agencies are required to deliver TAP services to transitioning Service members. See § 88.6 for a list of the TAP interagency parties.

TAP Staff. Subject matter experts hired by OSD and the Military Services, to provide services and programs that prepare Service members for transition from active duty to civilian life.

Targeted population. A population of eligible Service members consisting of those who are:

(1) 18 to 24 years old;

(2) Completing first-term enlistments;

(3) Involuntarily separating due to force shaping; and/or

(4) Separating on short notice from military service.

Transition. The preparation and process for moving from active duty service to the civilian sector.

Transition GPS. A package of activities and curricula specifically designed to provide eligible Service members with the targeted set of knowledge, skills, documentation, and assistance required to meet the CRS before transition and enable a successful transition from active duty to civilian life.

Transition GPS Core Curricula and Tracks. Components of Transition GPS based on value-added learning objectives that enable Service members to become career ready. The Core Curricula builds the CRS common to all Service members. Transition GPS tracks are chosen by Service members to meet Accessing Higher Education and Career Technical Training CRS or to pursue business ownership or other self-employment.

Transition GPS Participant Assessment. A web-based evaluation completed by the Service member about the Transition GPS modules, tracks, and virtual curricula. It includes curriculum and instruction materials, learning outcomes, facilitator performance, facilities, and logistics. Participant feedback from the assessment ensures that Transition GPS meets the needs and expectations of transitioning Service members and is outcome based. Information collected in the assessment will support the performance monitoring, evaluation, and reoccurring modifications to Transition GPS.

Transition overview. The Transition GPS module that explains the transition process in terms of who, what, where, when, and why. It is intended to gain the participant's attention and emphasize the importance of preparing for transition and making the most of the information provided. It is also intended to provide an overview of the Transition GPS Core Curricula program and the benefits of preparation for active involvement in each session. A skilled trainer well versed in the overall TAP should facilitate the transition assistance overview session.

Unanticipated Separation. Service members released from active duty before completion of enlistment, contract, or orders.

VA Benefits Briefings I and II. VA-led mandatory briefings that provide eligible Service members with hands-on training and information on available veterans' benefits and services.

Virtual Transition GPS Curricula. A web-based version of the Transition GPS curricula that provides an alternative delivery method for Service members who cannot attend installation-based training to access Transition GPS classes.

Warm Handover. A Capstone process between respective Military Departments and appropriate interagency parties resulting in the person-to-person connection of Service members to services and follow-up resources as needed. The Warm Handover provides a confirmed introduction and assurance that the appropriate interagency party/parties acknowledge(s) that an eligible Service member requires post-military assistance and the interagency party/parties is/are willing to follow through on providing assistance to meet the needs of Service members and assist them in attaining the CRS and making a successful transition.

§ 88.4 Policy.

It is DoD policy that:

(a) The TAP:

(1) Prepares all eligible members of the Military Services for a transition from Active Duty back to civilian life.

(2) Enables eligible Service members to fulfill the requirements of the VOW to Hire Heroes Act and meet CRS as required by this part.

(3) Is the overarching program that provides transition assistance, information, training, and services to eligible transitioning Service members to prepare them to be career ready when they separate, retire, or are released from active duty back to civilian life. The TAP consists of multiple elements, including: The Transition GPS curricula, the components of which are outlined in appendix E to part 88; policy and procedures; information technology (IT) infrastructure; research, studies and survey data; performance measures and outcomes; assessments; curricula development in both brick and mortar and virtual settings and modifications; CRS; accountability data; and resources required to implement transition assistance.

(b) Components are integrated throughout the eligible Service member's Military Life Cycle (MLC) TAP at key touch points. The Transition GPS component of TAP consists of curriculum, counseling, information, referral, and deliverables to enable eligible Service members to meet the CRS.

(c) This policy establishes a TAP interagency governance structure according to DoD Instruction 5105.18, “DoD Intergovernmental and Intragovernmental Committee Management Program” (available at http://www.dtic.mil/whs/directives/corres/pdf/510518p.pdf), referred to in this part as the TAP EC and SSG. DoD will support and carry out the DoD mission of the governance structure as set out in the Interagency Statement of Intent, dated August 15, 2013, “Transition Assistance for Separating Service Members.” The EC will designate working groups as appropriate. DoD representation to working groups will be in accordance with § 88.5 of this part.

§ 88.5 Responsibilities.

(a) Under the authority, direction, and control of the Under Secretary of Defense (Personnel and Readiness) (USD(P&R)), the Assistant Secretary of Defense for Manpower and Reserve Affairs Readiness and Force Management (ASD(M&RA)):

(1) Provides policy, direction, and oversight to the Transition to Veterans Program Office (TVPO);

(2) Provides oversight and governance for the TAP and serves as the DoD lead chair of the TAP EC on a rotational basis with DOL and the VA;

(3) Oversees TAP policy and programs, monitors compliance with TAP provisions, and provides guidance to DoD Component heads; and

(4) Coordinates with the CJCS to provide JS Senior Enlisted Advisor participation for the TAP EC and Senior Enlisted Advisor representation to the TAP SSG;

(b) Under the authority, direction, and control of USD(P&R)), the Assistant Secretary of Defense for Health Affairs (ASD(HA)):

(1) Ensures that the Defense Health Agency provides transitional medical and dental care information pursuant to 10 U.S.C. 1145 to the TVPO for incorporation into Pre-separation Counseling; and

(2) Provides representation to the TAP EC and SSG working groups, as necessary;

(c) Under the authority, direction, and control of the USD(P&R), the Assistant Secretary of Defense for Reserve Affairs (ASD(RA)):

(1) Helps the TVPO establish and publish guidance for participation in the TAP that is specific to eligible RC Service members as defined in law and policy;

(2) Coordinates with TVPO to integrate elements of Transition GPS, before the DD Form 214, “Certificate of Release from Active Duty,” August 20, 2009, into the Yellow Ribbon Reintegration Program in conjunction with the policy established in DoD Instruction 1342.28, “DoD Yellow Ribbon Reintegration Program (YRRP)” (available at http://www.dtic.mil/whs/directives/corres/pdf/134228p.pdf), as appropriate;

(3) Provides Executive Director, Family and Employer Programs Policy, Senior Executive Service (SES), representation to the TAP SSG; and

(4) Provides representation to the TAP EC and SSG working groups, as necessary.

(d) Under the authority, direction, and control of the (ASD (M&RA), the Deputy Assistant Secretary of Defense for Military Community and Family Policy (DASD(MC&FP)):

(1) Develops policy and programs in DoD Instruction 1342.22, “Military Family Readiness” (available at http://www.dtic.mil/whs/directives/corres/pdf/134222p.pdf) and other applicable MC&FP issuances that complements TAP;

(2) Coordinates with TVPO on the roles, responsibilities, and policies set out in DoD Instruction 1342.22. The roles include coordination with:

(i) Installation education officers that impact the delivery of the Transition GPS Accessing Higher Education track;

(ii) Certified financial counselors that impact the delivery of the Transition GPS Core Curricula Personal Financial Planning for Transition module;

(iii) TAP staff, in conjunction with Military Departments whose staff are functionally aligned with DASD(MC&FP), regarding the delivery of the Transition GPS components to enable eligible Service members to meet CRS;

(3) Provides policy regarding job placement counseling for the spouses of eligible transitioning Service members and career change counseling to Service members and dependents of eligible Service members in accordance with 10 U.S.C. Chapter 58; and

(4) Provides representation to the TAP EC and SSG working groups, as necessary.

(e) Under the authority, direction, and control of the (ASD(R&FM)), the Deputy Assistant Secretary of Defense for Military Personnel Policy (DASD(MPP)) provides:

(1) Information and updates on entitlements and policies affecting eligible Service members as defined in law and policy; and

(2) Representation to the TAP EC and SSG working groups, as necessary.

(f) Under the authority, direction, and control of the ASD(R&FM), the Deputy Assistant Secretary of Defense for Readiness (DASD(R)):

(1) Provides information and updates on entitlements and policies affecting eligible Service members as defined in law and policy;

(2) To the extent possible and where available, ensures DASD(R) programs and policies related to job training, employment skills training, apprenticeships, and internships complement those programs and policies that govern the TAP that fall under the purview of TVPO in conjunction with DoD Instruction 1322.29, “Job Training, Employment Skills Training, Apprenticeships, and Internships (JTEST-A1) for Eligible Service Members” (available at http://www.dtic.mil/whs/directives/corres/pdf/132229p.pdf);

(3) Coordinates private-sector credentialing, licensing, and training outreach, and collaborates with the TVPO to align transition preparation across the MLC TAP and facilitate the military talent pipeline from the Military Departments to the civilian work force; and

(4) Provides representation to the TAP EC and SSG working groups, as necessary;

(g) Under the authority, direction, and control of the USD(P&R), the Director, Department of Defense Human Resource Activity (DoDHRA) provides:

(1) Administrative support to TVPO, including human capital, funding, and logistics; and

(2) Representation to the TAP EC and SSG working groups, as necessary.

(h) Under the authority, direction, and control of the Director, DoDHRA, the Director, Defense Suicide Prevention Office (DSPO):

(1) Provides suicide prevention and resource information to TVPO for incorporation into Transition GPS programming for eligible Service members as defined in statute and policy pursuant to 10 U.S.C. Chapter 58;

(2) Coordinates with TVPO on the role, responsibilities, and training of Suicide Prevention Program Managers (SPPMs), in conjunction with the Military Departments as it relates to Transition GPS; and

(3) Provides representation to the TAP EC and SSG working groups, as necessary.

(i) Under the authority, direction, and control of the Director, DoDHRA, the Director, Defense Manpower Data Center (DMDC):

(1) Oversees implementation of the TAP data collection, data sharing, and IT portfolio management requirements as described in this section;

(2) Provides assistance to TVPO with the establishment of business processes for data collection, data sharing, web services, and cost sharing related to IT portfolio management requirements in this part;

(3) Provides representation to the TAP EC and SSG working groups, as necessary; and

(4) Provides program status updates, as determined by the TVPO, based on data housed within DMDC capabilities;

(j) Under the authority, direction, and control of the ASD(R&FM), the Director, TVPO:

(1) Coordinates TAP policies, programs, and delivery with the USD(P&R);

(2) Develops policy, strategic guidance, and program goals for the TAP and Transition GPS; and reviews, modifies, and reissues such guidance, as required;

(3) Oversees the Military Departments' implementation of TAP;

(4) Implements the requirements of the TAP governance bodies as defined by Interagency Statement of Intent, “Transition Assistance for Separating Service Members”;

(5) In conjunction with ASD(R&FM), supports and coordinates meetings and activities for TAP governance bodies, as defined in § 88.3;

(6) Serves as the DoD lead chair of the TAP SSG on a rotational basis with DOL and VA;

(7) Establishes processes to monitor compliance with statutory mandates and other performance management requirements, as appropriate;

(8) Establishes automated data collection processes through secure electronic data transfer, in conjunction with the Military Departments, partner agencies, and DMDC. (See paragraph (c) of appendix I to part 88);

(9) Before submission of operational execution plans, coordinates with the Military Departments and must receive approval from Director, TVPO, before final submission of operational execution plans, system modifications, or development of new systems that fall under DoD TAP data and information requirements.

(i) Implementation of any new IT system or capability; or

(ii) Revision to an existing system or capability of the Military Departments that support the TAP.

(10) Coordinates and collaborates with the interagency parties and other organizations, as appropriate, in accordance with a Memorandum of Understanding among the DoDVADOLEDDHS, SBA, and OPM “Transition Assistance Program for Separating Service Members” (available at http://prhome.defense.gov/RFM/TVPO/), to facilitate delivery of Transition GPS curricula, resources, and services, and to determine data sharing requirements;

(11) Coordinates with DMDC to provide TVPO-approved web-based services to the Military Departments for electronic transmission of DD Form 2958, “Service Member's Individual Transition Plan Checklist” and DD Forms 2648 or 2648-1, “Pre-separation or Transition Counseling Checklist for Active Component (AC) Service Members” and “Transition Assistance Program (TAP) Checklist for Deactivating/Demobilizing National Guard and Reserve Service Members,” respectively;

(12) Establishes a performance management framework to determine current and future resourcing and requirements;

(13) Analyzes data to evaluate the overall performance of the TAP;

(14) Establishes, reviews, assesses, and evaluates the effectiveness of Transition GPS;

(15) Oversees and monitors the development, delivery, maintenance, modification, and quality assurance of the Transition GPS brick-and-mortar and virtual curricula, products, and CRS deliverables, in accordance with this paragraph and MOU among DoD, VA, DOL, ED, DHS, SBA, and OPM, “Transition Assistance Program for Separating Service Members.” Develops brick-and-mortar and virtual curricula for the components of Transition GPS that fall under the purview of DoD and coordinates with interagency partners on their respective curriculums;

(16) Coordinates with interagency parties, the Military Departments, and Joint Knowledge Online (JKO), on the methods, processes, and standards used to deliver Transition GPS brick-and-mortar and virtual curricula, products, and deliverables used within Transition GPS, in accordance with MOU among DoD, VA, DOL, ED, DHS, SBA, and OPM, “Transition Assistance Program for Separating Service Members” and this part;

(17) Monitors Transition GPS curricula delivery by TVPO and Military Departments by conducting evaluations and participant assessments;

(18) Updates DD Forms 2648, 2648-1 and 2958 in conjunction with the Military Departments, within 180 days of legislative changes that affect eligible Service members, as appropriate;

(19) Develops, maintains, standardizes, and oversees usage of the ITP at the appropriate time in an eligible Service member's MLC TAP in conjunction with Military Departments;

(20) Establishes and leads TAP Coordinating Council consisting of subject matter experts from the DoD Components, to formulate, review, and update TAP policies and programs. Collaborates and coordinates on the development of the Military Departments' implementation plans related to TAP. RC members appointed to the TAP Coordinating Council will be determined pursuant to guidance from the Director, TVPO and in consultation with the Military Departments;

(21) Designates the DoD lead for the EC Transition Assistance Working Group. Conducts outreach to private- and public-sector entities to improve transition preparation in order to keep transition services aligned to the needs of the civilian labor market; and

(22) Expands TAP services through online media and other cooperative outreach efforts to support eligible Service members and their spouses, as defined by statute and policy.

(k) The Secretaries of the Military Departments:

(1) Implement and administer TAP in accordance with this part;

(2) Oversee TAP for their respective AC and RC;

(3) Coordinate electronically with TVPO their implementation guidance pertaining to this part, before publication. A copy of the final implementing guidance will be provided to TVPO within 120 days from the publication date of this part. Future changes to TAP guidance will be forwarded to the TVPO within 30 days of issuance;

(4) Ensure the Inspector General (IG) of each Military Department, including their respective RC, conducts an inspection of TAP in accordance with established IG protocols;

(i) TAP IG inspection findings will be submitted biannually to the USD(P&R) no later than January 31 of the fiscal year following the previous inspection date.

(ii) The first TAP IG inspection findings will be submitted two full fiscal years from the effective date of this part.

(5) Internally resource TAP to meet the provisions as defined in law and policy;

(6) Ensure that eligible Service members receive the TVPO standardized Transition GPS components, develop a viable ITP, and meet CRS;

(7) Ensure that Service members who do not meet the CRS or do not have a viable ITP receive a warm handover, as defined in § 88.3, to the appropriate interagency party;

(8) Align, administer, and reinforce Transition GPS components and resources at appropriate key touch points throughout the MLC TAP of eligible Service members to ensure they are afforded the opportunity, time, and resources for career readiness preparation. At the separation, retirement, or release from active duty touch point all Service members must meet the CRS;

(9) Ensure Service member access to Transition GPS brick-and-mortar and virtual curricula;

(10) Provide the opportunity within the officer and enlisted evaluation systems to use the rate at which Service members within a command have met the CRS, as a performance criteria;

(11) In order to execute Transition GPS in accordance with MOU among DoD, VA, DOL, ED, DHS, SBA, and OPM, “Transition Assistance Program for Separating Service Members” and DoD 5500.07-R, “Joint Ethics Regulation (JER)” (available at http://www.dtic.mil/whs/directives/corres/pdf/550007r.pdf), DoD Instruction 1344.07, “Personal Commercial Solicitation on DoD Installations” (available at http://www.dtic.mil/whs/directives/corres/pdf/134407p.pdf), DoD Instruction 1000.15, “Procedures and Support for Non-Federal Entities Authorized to Operate on DoD Installations” (available at http://www.dtic.mil/whs/directives/corres/pdf/100015p.pdf), DoDI 1322.25, “Voluntary Education Program,” and DoDI 1322.19, “Voluntary Education Program in Overseas Areas” to allow facility access to interagency parties on installations in the United States and abroad;

(12) Encourage installation commanders to permit properly vetted civilian employers to have access to transition assistance-related events and activities in the United States and abroad in accordance with MOU among DoD, VA, DOL, ED, DHS, SBA, and OPM, “Transition Assistance Program for Separating Service Members,” DoD 5500.07-R, and DoD Instruction 1344.07, at no cost to the U.S. Government. Access must be for the purpose of offering job opportunities, mentoring, internships, or apprenticeships leading to employment. Educational institution access will also be in accordance with DoD Instruction 1322.25, “Voluntary Education Program,” and DoD Instruction 1322.19, “Voluntary Education Program in Overseas Areas;”

(13) Strongly encourage installation commanders to permit access to VSOs and MSOs to transition assistance-related events and activities in the United States and abroad in accordance with MOU among DoD, VA, DOL, ED, DHS, SBA, and OPM, “Transition Assistance Program for Separating Service Members,” DoD 5500.07-R, and DoD Instruction 1344.07, at no cost to the U.S. Government. Access must be for the purpose of assisting Service members with the pre- and post-military disability claim process and transition resources and services;

(14) Assign the appropriate Departmental Deputy Assistant Secretary or Director to serve as a TAP SSG member (e.g., Civilian Personnel/Quality of Life; Air Force Management Integration; Fleet and Family Readiness); and

(15) Provides representatives to the TAP EC working groups, as necessary.

(l) The Chief of the National Guard Bureau assigns the Director of Personnel, an SES, to serve as a TAP SSG member.

(m) In addition to the responsibilities in paragraph (k) of this section and in consultation with the Commandant of the U.S. Marine Corps (USMC), the Secretary of the Navy (SECNAV):

(1) Develops joint implementation instructions to ensure statutory compliance for all eligible transitioning USMC and U.S. Coast Guard (USCG), personnel whenever the Coast Guard operates as a service in the Navy pursuant to 10 U.S.C. 5033 and 14 U.S.C. 3.

(2) Assigns an SES member to serve as TAP SSG member.

§ 88.6 Procedures.

(a) Military Department Requirements. The Military Services' additional requirements include:

(1) Perform these TAP operations and resource management functions:

(i) Develop requirements and budgets for the Program Objective Memorandum (POM); Future Year Defense Program (FYDP); and program budget reviews, as required to comply with TAP requirements. Coordinate with OSD TVPO for TAP resource advocacy throughout these cycles.

(ii) Establish program elements or accounting codes to separately and independently verify and review the monthly Military Department-funded execution data (i.e., program funding levels, obligations, disbursements) in Defense Finance and Accounting Service (DFAS) reports and submit to TVPO quarterly. Any decrement to Military Department TAP annual program funding of 5% or greater must be reported to TVPO.

(iii) Identify and submit TAP-related issues at the general or flag officer and SES equivalent level to the TVPO in a timely manner so that TAP-related issues can go before the SSG for discussion and decision.

(2) Coordinate with TVPO on implementation of any new IT systems or capabilities and revisions to existing systems that support the TAP. TVPO will have final approval on any new IT systems and or modifications. TVPO approval will be obtained before the Military Departments implement any IT systems modifications or develop any new systems that support TAP. See paragraph (c) of appendix I to part 88.

(3) Use TVPO-selected standardized individual assessment tools.

(4) Ensure that Service members receive an individualized assessment, pursuant to this paragraph, of the various positions of civilian employment in the private sector for which members may be qualified as a result of the skills developed through MOC qualification, successful completion of resident training courses, attainment of military ranks or rates, or other military experiences.

(5) Develop, maintain, document, and oversee the IDP process.

(6) Inform and educate unit, command, and installation leadership on their responsibility to administer the TAP to ensure that eligible Service members meet the CRS before separation, retirement, or release from active duty.

(7) Identify the eligible population for Transition GPS services.

(8) Identify and provide qualified counselors and trained instructors to facilitate the Transition GPS core curricula and Accessing Higher Education track.

(9) Coordinate with DSPO SPPMs at the local installation level to provide information in support of the Transition GPS Core Curricula module on resilient transitions and to distribute suicide prevention information and resources pursuant to 10 U.S.C. Chapter 58 .

(10) Release eligible Service members during duty hours to complete the Transition GPS and exempt them from normal duty for the full 24-hour period of each workshop or briefing day and the 12 hours immediately preceding and following each workshop or briefing.

(11) Provide eligible Service members with the link to the TVPO web-based Transition GPS Participant Assessment and encourage them to complete it at the end of each Transition GPS brick-and-mortar and virtual curricula module or group of modules. Responses will not identify individual Service members.

(12) Establish a process within the military personnel organizations of the Military Departments to receive a legible copy of the completed and authenticated DD Forms 2648 or 2648-1 from the TAP staff. The process will include a mechanism to verify transmission of the form to the eligible Service member's permanent official military personnel file.

(13) Maintain or establish permanent employment assistance centers at appropriate military installations pursuant to 10 U.S.C. 1143.

(14) Use appropriate assets at military installations and in the local community to enhance Transition GPS in accordance with DoD 5500.07-R and DoD Instruction 1344.07.

(15) Coordinate with the appropriate TAP interagency parties for scheduling and conducting the VA Benefits Briefings I and II and Career Technical Training track; DOLEW and SBA Entrepreneurship track in accordance with MOU among DoD, VA, DOL, ED, DHS, SBA, and OPM, “Transition Assistance Program for Separating Service Members.”

(16) Coordinate warm handovers and Capstone support with interagency parties.

(17) Provide classroom space. Classes cannot exceed 50 participants (facilitator-to-student ratio should be 1:50 per separate classroom). A minimum of 10 participants is required to conduct a class. Military Departments will provide classrooms, appropriate facilities, IT infrastructure, fully-functioning web access, equipment, including classroom computers or accommodation for personal computers to enable effective Transition GPS instruction and counseling in accordance with MOU among DoD, VA, DOL, ED, DHS, SBA, and OPM, “Transition Assistance Program for Separating Service Members;” provide adequate facilities and workspace for instruction and counseling as agreed to by interagency parties also in accordance with MOU among DoD, VA, DOL, ED, DHS, SBA, and OPM, “Transition Assistance Program for Separating Service Members.” Military Departments may request exceptions for classrooms of more than 50 or less than 10 participants on a case-by-case basis. Such requests will be handled by the local installation level staff with partner agencies.

(18) Provide reasonable accommodations that enable wounded, ill or injured recovering Service members to successfully complete TAP.

(b) TAP Implementation. (1) Development of brick-and-mortar and virtual curricula, staff training, and delivery of certain elements of the Transition GPS Core Curricula and Transition GPS tracks will be conducted in coordination and conjunction with the TVPO and appropriate TAP interagency parties in accordance with MOU among DoD, VA, DOL, ED, DHS, SBA, and OPM, “Transition Assistance Program for Separating Service Members.”

(2) Interagency parties, and their respective curriculas consist of:

(i) VA: Provides the VA Benefits Briefings I and II and Career Technical Training track.

(A) The VA hosts a web portal for connectivity between employers and transitioning Service members, Veterans and military spouses.

(B) The VA web portal supports providing private and public sector employers with a direct link to profiles of separating Service members.

(ii) DOL: Provides the DOLEW.

(iii) SBA: Provides the Entrepreneurship track.

(iv) OPM: In conjunction with DOL, reviews and provides federal job search curriculum content for use in the DOLEW.

(v) ED: Consultative reviews of curricula to ensure accuracy of content, employment of adult learning principles, and to enhance adult learning experiences.

(vi) DHS: Coordinates and plans for USCG participation in the TAP, in accordance with this paragraph. MOU among DoD, VA, DOL, ED, DHS, SBA, and OPM, “Transition Assistance Program for Separating Service Members,” and pursuant to 14 U.S.C. 13

(vii) DoD provides transition overview, resilient transitions, MOC Crosswalk, Financial Planning for Transition, ITP review, and Accessing Higher Education.

(c) TAP Eligibility—(1) Service Members. (i) Eligible Service members who have completed their first 180 days or more of continuous active duty in accordance with 10 U.S.C. 1142 are eligible for the following components of Transition GPS:

(A) Pre-separation or Transition Counseling.

(B) Transition GPS Core Curricula.

(C) Transition GPS Tracks.

(D) Capstone.

(ii) RC members may choose to decline pre-separation or transition counseling, using the DD Form 2648 or DD Form 2648-1, for each successive period of active duty under 10 U.S.C. 1142 consisting of 180 days or more of continuous active duty.

(iii) Eligible Service members may choose to participate in one or more of the individual Transition GPS tracks, if resources, capacity, and operational requirements allow, based on the Service member's interests and ability to meet the CRS and complete the track.

(iv) A minimum day requirement for Pre-separation or Transition Counseling does not apply to eligible Service members who are retiring or separating due to a disability.

(v) Administrative and punitive separations change the eligibility of Service member's participation as follows:

(A) Pre-separation or transition counseling will not be provided to a Service member who is being discharged or released before the completion of that member's first 180 continuous days or more on active duty pursuant to 10 U.S.C. 1142.

(B) All Service members shall participate in all mandatory components of Transition GPS. In cases where Service members receive a punitive or “Under Other Than Honorable Conditions” discharge, Commanders have the discretion to determine participation in the remaining Transition GPS curricula in consultation with interagency partners, as appropriate.

(2) Spouses and dependents. (i) Pursuant to 10 U.S.C. 1144, spouses of eligible Service members are entitled to the DOLEW.

(ii) Pursuant to 10 U.S.C. 1142 spouses of eligible Service members are entitled to:

(A) Job placement counseling for spouses and career change counseling to dependents of eligible members in accordance with 10 U.S.C. 1142. See paragraph (d)(3) of § 88.5 for the spouse job placement counseling responsibilities of the DASD(MC&FP).

(B) DoD and VA administered survivor benefits information.

(C) DoD financial planning assistance, including information on budgeting, saving, credit, loans, and taxes.

(E) VA-benefits orientation, such as education, employment, home loan services, housing assistance benefits information, and responsible borrowing practices counseling.

(iii) Pursuant to 10 U.S.C. 1142, eligible Service members and their dependents are entitled to:

(A) Career change counseling.

(B) Information on suicide prevention resource availability following military separation, retirement, or release from active duty.

(iv) Pursuant to 10 U.S.C. 1145, eligible Service members and their dependents are entitled to transitional medical and health care that will be available for 180 days, beginning on the first day after the date of separation, retirement, or release from active duty.

(v) Unless prohibited by statute, spouses of eligible Service members are encouraged to participate in Transition GPS as resources and capacity allow. Participating spouses may have their attendance recorded in accordance with the privacy and information collection mandates and requirements of appendix I to part 88 and 32 CFR part 310.

(vi) Spouses or designated caregivers completing Pre-separation or Transition Counseling (using DD Forms 2648 or 2648-1) on behalf of an eligible recovering Service member will provide their Social Security Number for data collection purposes in accordance with this paragraph,10 U.S.C. 1142, DoD Instruction 1342.28 32 CFR part 310 and 14 U.S.C. 5033.

(d) Transition GPS Priority of Service. The following is the descending order of priority for participation in Transition GPS:

(1) Eligible Service members identified as part of the targeted population, as defined in § 88.3 of this part.

(2) Eligible Service members closest to their dates of separation, retirement, or release from active duty.

(3) Eligible Service members returning from overseas or assigned to remote or isolated and geographically dispersed locations.

(4) All other eligible Service members that do not fall into the categories addressed in paragraphs (a) through (c) of this section.

(5) Eligible Service members who have attended any previous Transition GPS component and who want to repeat a component, as resources and capacity allow.

(6) Spouses of eligible Service members, based on statute and policy, as resources and capacity allow.

(e) Transition GPS participation. All eligible Service members must participate in Transition GPS and must meet the Common CRS and the specific CRS commensurate with their personal higher education or career technical training objectives before separation, retirement, or release from active duty. This will be reflected by the discharge date recorded on the DD Form 214.

Appendix A to Part 88—Career Readiness Standards

(a) The CRS are defined as a set of common and specific activities and associated relevant deliverables (documentation within the last 12 months) that, when achieved, the Service member will be able to demonstrate that he or she is prepared to transition to effectively and pursue their personal post-separation higher education, career technical training, and civilian employment goals. General and flag officers are exempt from CRS, completion of the ITP, ITP Checklist, and Capstone.

(b) The CRS are tangible measures of a Service member's preparedness for higher education or direct entry into a civilian career. The tangible measures consist of:

(1) Common CRS. All eligible Service members will show documented evidence that they have:

(i) Completed the TVPO standardized ITP. The ITP must document the individual's personal employment; higher education; career technical training; or entrepreneurship goals, actions, and milestones ;

(ii) Completed the TVPO standardized 12-month post-separation budget;

(iii) Registered for VABenefits online account;

(iv) Completed the Continuum of Military Service Opportunity counseling (AC only);

(v) Evaluated the transferability of military skills to the civilian workforce and completed the TVPO standardized gap analysis provided during the MOC crosswalk;

(vi) Identified requirements and eligibility for certification, licensure, and apprenticeship in the Service member's desired potential career field;

(vii) Completed a standardized individual assessment tool, as determined by TVPO or the Military Departments, to identify personal interests and leanings that will enable informed decision-making regarding career selection;

(viii) Received a DOL Gold Card, as defined in § 88.3, for DOL American Job Centers; and

(ix) Completed a job application package, received a job offer letter, or provided proof of future employment. The job application package must include the Service member's private or public sector resume, personal and professional references, and at least two submitted job applications.

(2) Accessing Higher Education and Career Technical Training CRS. Eligible Service members seeking higher education or career technical training when they depart from military service will show documented evidence that they have:

(i) Completed a standardized individual assessment tool, selected by the Military Departments, to assess aptitudes, interests, strengths, or skills used to inform a Service member's decisions about selecting higher education and career technical training toward a desired future career field;

(ii) Completed a comparison of higher education or career technical training institution options;

(iii) Completed an application or received acceptance letter from a higher education or career technical training institution and

(iv) Confirmed one-on-one counseling with a higher education or career technical training institution advisor via telephone, email, or letter.

Appendix B to Part 88—MLC TAP

(a) Key Touch Points. (1) Key touch points of the MLC TAP are reflected in the individual Military Service's plans and will include, at a minimum:

(i) First permanent duty station for AC personnel or first home station for RC personnel during initial drilling weekends;

(ii) Reenlistment;

(iii) Promotion;

(iv) Deployment and redeployment or mobilization or activation; demobilization or deactivation;

(v) Change of duty station;

(vi) Major life events (e.g., change in family status, change in Military Occupational Specialty, Navy Rating or Air Force Specialty Code); and

(vii) Retirement, separation or release from active duty.

(2) Transition GPS services may be made available to ineligible RC members during the MLC TAP as resources and capacity allow.

(b) MLC TAP Timeline. (1) The MLC TAP begins at the first permanent duty station or home station, continues throughout the military career of an eligible Service member, and culminates at Capstone. It includes the development of the IDP. Throughout the MLC TAP, Service members will be trained, educated, and postured to become career-ready upon separation from military service by completing the Transition GPS curriculum to meet the CRS. On commencing the transition process, the IDP will migrate into the ITP. The MLC TAP will include a Capstone.

(2) Before participating in Pre-separation or Transition Counseling, eligible Service members will complete a standardized individual assessment tool, as determined by TVPO or the Military Departments, to identify personal interests and leanings that will enable informed decision-making regarding career selection.

(3) Before participating in the Transition GPS Core Curricula, eligible Service members will complete a standardized individual assessment tool, selected by the Military Departments or TVPO, to assess aptitudes, interests, strengths, or skills used to inform a Service member's decisions about selecting higher education and career technical training toward a desired future career field.

(4) Eligible RC component Service members, on completion of two or more mobilizations, must have a relevant standardized individual assessment.

Appendix C to Part 88—Pre-Separation or Transition Counseling

(a) Pre-Separation or Transition Counseling. Mandatory counseling is provided to eligible Service members by TAP staff or command career counselors to inform members of services, benefits, curricula, assessments, CRS deliverables, and ITP during and after their separation, retirement, or release from active duty.

(1) An appropriate legal representative or ethics official will brief eligible Service members on ethics pursuant to DoD 5500.07-R, to ensure they understand information on post government (military) employment counseling (restrictions on employment, imposed by statute and regulation). These briefings shall be conducted by the Military Services as appropriate.

(2) Eligible Service members will receive information from a career counselor or transition staff member on how to access and use the DD Form 2586, “Verification of Military Experience and Training.”

(3) Eligible Service members who are voluntarily or involuntarily separated under any program initiated by a DoD instruction or directive, Congressional directive, Presidential executive order, or Military Department regulation, in order to ensure good order and discipline, shape the force, or draw down or realign forces, will be briefed by a career counselor or transition staff member on any special entitlements or benefits associated with these programs.

(4) Eligible Service members retained on active duty past their enlistment or reenlistment or contracts for purposes of mission essentiality, deployment continuity, or operational requirements, as determined by the Secretary concerned, will be briefed by a career counselor or transition staff member on any entitlements and benefits incurred during involuntary retention actions.

(5) Eligible Services members will be counseled and provided information or referrals, as requested, on all items listed on DD Forms 2648 or 2648-1 by the transition staff or command career counselors.

(b) Pre-Separation or Transition Counseling Timeline. Pursuant to 10 U.S.C. 1142, Pre-separation or Transition Counseling:

(1) For retirement purposes, will begin as soon as possible during the 24-month period preceding an anticipated retirement date but no later than 90 days before retirement; or

(2) For reasons other than retirement, will begin as soon as possible during the 12-month period preceding the anticipated date of separation but no later than 90 days before separation, retirement, or release from active duty; or.

(3) Will begin as soon as possible within the remaining period of service when:

(i) A retirement or other separation is unanticipated, and there are 90 or fewer days before separation, retirement, or release from active duty; or,

(ii) An eligible RC member is being demobilized or deactivated from active duty under circumstances in which operational requirements, as determined by the Secretary concerned, make the 90-day requirement unfeasible.

(4) Will not be provided to Service members who are discharged or released before completing their first 180 continuous days or more on active duty, as defined by 10 U.S.C. 1142. This limitation does not apply in the case of Service members who retire or separate for a disability.

(c) Involuntary Separations. Eligible Service members, and their dependents, undergoing involuntary separation from active duty as defined in 10 U.S.C. 1141 and in accordance with DoD Instruction 1332.30 and DoD Instruction 1332.14, will be made aware that they are entitled to:

(1) Use of commissary and exchange stores during the two-year period starting on the date of involuntary separation, pursuant to 10 U.S.C. 1146;

(2) Transitional medical and dental health care that will be available for 180 days beginning on the first day after the date of involuntary separation, pursuant to 10 U.S.C. 1145;

(3) Extended use of military family housing, subject to overseas Status of Forces Agreements, for up to 180 days after separation on a space-available basis and potential rental charges, pursuant to 10 U.S.C. 1147, the Secretary, shall require a reasonable rental charge for the continued use of military family housing under paragraph (a) of this appendix, except that such Secretary may waive all or any portion of such charge in any case of hardship;

(4) Overseas relocation assistance, including computerized job relocation assistance and job search information, pursuant to 10 U.S.C. 1148;

(5) Preference in hiring by non-appropriated fund instrumentalities, pursuant to 10 U.S.C. 1143; and

(6) Excess leave for a period not in excess of 30 days or permissive temporary duty for a period not in excess of 10 days for the purpose of carrying out necessary relocation activities, pursuant to 10 U.S.C. 1149.

(d) Pre-Separation or Transition Counseling Checklist (DD Forms 2648 or 2648-1). (1) The DD Form 2648 and DD Form 2648-1 will be used by eligible Service members to record Pre-separation or Transition Counseling.

(2) In accordance with 32 CFR part 310, privacy information contained within these forms will be maintained based on the System of Records Notification pertaining to these forms.

(3) All items on the applicable DD Forms 2648 or 2648-1 will be addressed during Pre-separation or Transition Counseling.

(4) Pre-separation or Transition Counseling checklist data will be submitted electronically to DMDC through the DMDC web-based service or TVPO-approved systems.

Appendix D to Part 88—IDP and ITP

(a) IDP. (1) Eligible Service members will initiate an IDP in accordance with Military Department regulations and procedures.

(2) Eligible Service members will document on the IDP the actions they must take to achieve their military and post-transition career goals and meet the CRS before separation, retirement, or release from active duty.

(3) Commanders, or commanders' designees, will ensure eligible Service members develop, update, and maintain the IDP at key touch points throughout the MLC TAP, in accordance with Military Department regulations and procedures.

(4) The IDP should be initiated in accordance with Military Departments regulations, but no later than 180 days after arrival at the first permanent active duty station for AC members or first home station for RC members during their initial drilling weekends.

(5) On the eligible Service member's decision to separate or retire or on notification of involuntary separation, the IDP will migrate into the ITP.

(b) ITP. (1) Service members will be introduced to the requirement of developing an ITP from their IDP during Pre-separation or Transition Counseling.

(2) The ITP is a step-by-step plan derived from the eligible Service member's IDP.

(3) Eligible Service members are required to document their post-military personal and professional goals and objectives on the ITP.

(4) The ITP is an evolving document that is reviewed, modified, and verified throughout transition preparation.

(5) ITP responses serve as potential triggers for further action by the eligible Service member to connect to the appropriate interagency party or subject matter expert for assistance.

(6) During the ITP review and verification processes, eligible Service members must produce evidence of the deliverables that meet the CRS before separation, retirement, or release from active duty.

(c) ITP Checklist (DD Form 2958). (1) The ITP Checklist, in conjunction with the ITP, will be used by the commander, or commander's designee, to verify that the eligible Service member has or has not met the CRS.

(2) If it is determined that the CRS or a viable ITP have not been achieved, then the ITP checklist will document confirmation of a warm handover to partner agencies and or other appropriate agencies.

(3) During the ITP review and verification processes, eligible Service members must produce deliverables to serve as evidence that they are prepared to meet the CRS before separation, retirement, or release from active duty.

(4) ITP Checklist data will be submitted electronically to DMDC through the DMDC web-based service or a TVPO-approved system.

(5) TAP staff will explain to eligible Service members during Pre-separation or Transition Counseling how the ITP and Pre-separation or Transition Counseling checklists work together to provide the Service member with a plan for meeting the CRS.

Appendix E to Part 88—Transition GPS (Goals, Plans, Success)

(a) Transition GPS. (1) Transition GPS is the package of TAP resources and services that will be used as a vehicle to enable eligible Service members to attain the CRS throughout the MLC TAP.

(2) Changes, as needed, to the standardized Transition GPS brick-and-mortar or virtual curricula, services, and learning objectives must be approved by TVPO for implementation across all Military Departments.

(3) The following Transition GPS components require mandatory participation unless Service members are exempt:

(i) Pre-separation or Transition Counseling is mandatory. See appendix C to part 88 for Pre-separation or Transition Counseling requirements.

(ii) VA Benefits Briefings I and II are mandatory.

(iii) Capstone is mandatory. See appendix H to part 88 for Capstone requirements.

(4) Participation in the DOLEW is mandatory, unless exempt. See appendix F to part 88 for specific DOLEW exemptions.

(5) Except for the components designated as mandatory, participation in Transition GPS tracks are based on proof of the Service member's ability to meet the associated CRS.

(6) Transition GPS consist of these components:

(i) Pre-separation or Transition Counseling. Pre-separation or Transition Counseling is mandatory for all eligible Service members no later than 90 days before separation, in accordance with 10 U.S.C. 1142. See appendix C to part 88 for Pre-separation or Transition Counseling requirements.

(ii) Transition GPS Core Curricula. Except for those subcomponents designated as mandatory, completion of the following subcomponents is determined based on the eligible Service member's ability to attain the CRS. The curricula consists of thefollowing subcomponents (defined in § 88.3):

(A) Transition Overview;

(B) Resilient Transitions;

(C) MOC Crosswalk;

(D) Personal Financial Planning for Transition;

(E) VA Benefits Briefings I and II, to be conducted pursuant to 10 U.S.C. 1142. Completion of this subcomponent is mandatory;

(F) DOLEW, to be conducted pursuant to 10 U.S.C. 1144. Completion of this subcomponent is mandatory, unless exempt. See appendix F to part 88 for DOLEW exemption eligibility; and

(G) ITP Review.

(iii) Transition GPS Tracks. (A) Eligible Service members may choose to participate in one or more, if resources, capability, and operational requirements allow of the Transition GPS tracks based on their interests and ability to meet the CRS.

(B) The outcome of completed tracks will be documented in the Service member's ITP and on the ITP checklist, as applicable.

(C) Eligible Service members may participate in one or more, if resource availability and operational requirements allow, of the following Transition GPS tracks:

(1) Accessing Higher Education Track. Eligible Service members pursuing higher education will receive guidance to prepare for the application process. On completing the Accessing Higher Education Track, eligible Service members will be prepared to:

(i) Complete an application to an accredited academic institution offering a sound program of study towards the Service member's career aspirations within the member's financial means.

(ii) Schedule a session with a counselor from an academic institution.

(iii) Meet individually with education counselors, as needed.

(2) Career Technical Training Track. Eligible Service members pursuing career technical training will receive guidance and help in selecting schools and technical fields. On completion of the Career Technical Training Track, eligible Service members will be prepared to:

(i) Complete an application to an accredited career technical training institution offering a sound program of study towards the Service member's career aspirations within the member's financial means.

(ii) Schedule a session with a counselor from a career technical training institution.

(iii) Meet individually with career technical training experts and VA vocational education counselors, as applicable.

(3) Entrepreneurship Track. Eligible Service members pursuing business ownership or self-employment in the private or non-profit sectors will receive information related to the benefits and challenges of entrepreneurship, the steps required to pursue business ownership and evaluate the feasibility of a business concept, and the SBA and other public and private sector resources available for further technical assistance and access to capital and contracting opportunities. Upon completing of Entrepreneurship Track, eligible Service members will have developed the initial components of a business feasibility plan at no cost to the participant.

(i) Eligible Service members will be given the opportunity to enroll in an optional eight-week online entrepreneurship course instructed by professors and practitioners.

(ii) Eligible Service members will be afforded the opportunity to connect with a small business owner as a mentor to assist with the business start-up process. A warm handover, as needed, will be coordinated through procedures established by the SBA.

(iv) Capstone. (A) Completion of Capstone is mandatory.

(B) Capstone provides an opportunity for eligible Service members to have attainment of the CRS verified by the commander or his or her designee.

(C) At Capstone, if the Service member cannot meet the CRS before transition, the commander or his or her designee confirms and documents a warm handover to appropriate interagency parties, or local resources. If in the judgement of the Commander or commander's designee, it is determined that the Service member does not meet CRS or does not have a viable ITP, then he or she must confirm that a warm handover takes place with the appropriate interagency parties, as needed.

(b) Command responsibility. (1) Commanders have oversight responsibility for Service members achieving CRS via Transition GPS. The oversight responsibility may not be delegated. Transition GPS may not be delegated except as stated in paragraph (b)(2) of this appendix.

(2) Commanders will:

(i) Ensure eligible Service members are afforded the opportunity, resources, and time to meet the CRS before separation, retirement, or release from active duty.

(ii) Be fully engaged throughout the MLC TAP in enabling Service members the opportunity, resources, and time to meet and attain the CRS and comply with statutory mandates before separation, retirement, or release from active duty.

(iii) Verify that eligible Service members have met the CRS and have a viable ITP during Capstone and ensure that members who did not meet the CRS or do not have a viable ITP receive a warm handover to the appropriate interagency parties or local resources.

(iv) Ensure Transition GPS components are delivered at key touch points throughout the MLC TAP.

(v) Ensure development and maintenance of the IDP throughout the MLC TAP and afford Service members the opportunity, resources and time to meet the CRS.

(c) Transition GPS timeline. In anticipation of the discharge or release from active duty of an eligible Service member, and during key touch points in the MLC TAP, the following timeline is applicable:

(1) In the case of an anticipated retirement, the components of Transition GPS not yet completed will begin as soon as possible during the 24-month period before the retirement date;

(2) In the case of a separation other than a retirement, the components of Transition GPS not yet completed will begin as soon as possible during the 12-month period before the anticipated discharge date;

(3) The incomplete components of Transition GPS will begin no later than 90 days before separation, retirement, or release from active duty except in those cases where statute determines specific timelines;

(4) In the case that there is a retirement or an unanticipated separation, and there are 89 days or fewer before discharge or release from active duty, the components of Transition GPS not yet completed will begin as soon as possible within the remaining period of service or the effective date on the DD 214, and the Service member must meet all requirements; and

(5) Transition GPS will begin as soon as possible within the remaining period of service when:

(i) An eligible RC member is being released from active duty under circumstances in which operational requirements, as determined by the Secretary concerned, make the prescribed timeline unfeasible; or

(ii) There are 90 or fewer days before the anticipated release from active duty.

Appendix F to Part 88—DOLEW Exemptions

(a) The only exemptions to eligible Service member participation in the DOLEW portion of the Transition GPS Core Curricula are:

(1) Eligible Service members retiring after 20 or more years of qualifying military service.

(2) Eligible Service members who, after serving their first 180 continuous days or more on active duty, pursuant to 10 U.S.C. 1142 meet at least one of the following criteria:

(i) Are able to provide documented evidence of civilian employment; or.

(ii) Are able to provide documented acceptance into an accredited career technical training, undergraduate, or graduate degree program; or.

(iii) Have specialized skills which, due to unavoidable circumstances, are needed to support a unit on orders scheduled to deploy within 60 days. The first commander in the eligible Service members' chain of command, with authority pursuant to 10 U.S.C. chapter 47, also known and referred to as the Uniform Code of Military Justice (UCMJ), must certify on the DD Form 2958 any such request for exemption from the DOLEW. A make-up plan must accompany the postponement certification.

(iv) Eligible recovering Service members who are separating, retiring, or being released from active duty who are enrolled in the Education and Employment Initiative, or similar transition program designed to secure employment, higher education, or career technical training post-separation. The standardized terms and definitions for wounded, ill, and injured are outlined in the DoD/VA Wounded, Ill, and Injured Senior Oversight Committee Memorandum, “Implementation of Wounded, Ill, and Injured Related Standard Definitions” (available at http://www.health.mil/Policies/2008/12/10/Implementation-of-WII-Standard-Definitions).-.

(b) TAP staff will document on the DD Form 2958 the decision of eligible Service members who qualify for an exemption and elect not to participate in the DOLEW.

(c) Eligible RC Service members who have previously participated in the DOLEW may request an exemption.

(d) Eligible Service members who qualify for an exemption may still elect to participate in the DOLEW.

Appendix G to Part 88—Virtual Curricula

(a) DoD Components and Military Departments, in conjunction with JKO, DHS, VA, DOL, OPM, SBA and other appropriate interagency parties, must leverage the capabilities of web-based adult learning to ensure the transitioning force complies with statutory mandates to meet the CRS before separation, retirement, or release from active duty.

(b) As provided by TVPO or JKO, the virtual curricula provides an alternative delivery of Transition GPS to enable compliance with statutory mandates and attainment of the CRS as set by this Appendix. Those who can use the virtual curricula include:

(1) Eligible Service members whose duty locations are in remote or isolated geographic areas.

(2) Eligible Service members who are undergoing short-notice separation, as defined in the § 88.3 and pursuant to 10 U.S.C. chapter 59, and cannot access brick-and-mortar curricula in a timely manner.

(3) Spouses of eligible Service members, as resources and capacity allow.

(c) A Virtual Curricula must:

(1) Be easily accessible by eligible Service members through JKO;

(2) Be approved in design, look, color, etc., by the Director of TVPO in consultation with the Military Departments and partner agencies;

(3) Include interactive technology tools to monitor Service member participation in the training and knowledge gained;

(4) Include module materials and activities that engage participants, support diverse learning styles, foster frequent interaction, and encourage meaningful communication and collaboration between the participants and instructors;

(5) Include a data-capture feature or interface with the TVPO and DMDC-provided web service or process to ensure Service members receive credit for successfully completing the curricula;

(6) Ensure Virtual Curricula is compliant with section 508 of the Rehabilitation Act of 1973 as amended, 29 U.S.C 792.

(d) The virtual curricula's educational effectiveness and teaching and learning process will be assessed through an evaluation process that may include Service members' knowledge gain, retention, and satisfaction. TVPO will evaluate assessments in collaboration with the Military Departments and partner agencies.

(e) Intended learning outcomes will be reviewed regularly to ensure clarity, utility, and appropriateness.

(f) Documented procedures will be used to assure that security of personally identifiable information (PII) is protected in the conduct of assessments and evaluations and in the dissemination of results in accordance with 32 CFR part 310 and 14 U.S.C. 5033.

(g) Changes to the DoD virtual curricula will be approved by TVPO for implementation across all Military Departments.

Appendix H to Part 88—Capstone

(a) Review and verification. Capstone is a two-stage process. Stage one is an in-depth review of the Service members ITP and CRS, which is conducted by TAP staff. Stage two consists of the Commander or Commanders' designee verifying that the Service member has a viable ITP and has met the CRS. If the Commander or Commanders' designee determines that the Service member does not meet CRS or does not have a viable ITP, then he or she must confirm that a warm handover takes place with the appropriate interagency parties, as needed. The review and verification processes may or may not occur simultaneously.

(1) Stage One—Capstone review. During the Capstone review, a Service member's ITP, CRS deliverables pertaining to the member's personal goals and ITP Checklist will be checked to identify shortfalls and determine if the member is at risk of not meeting the CRS before separation, retirement, or release from active duty.

(i) The review will be conducted by:

(A) A TAP staff member or career counselor for eligible Service members in the rank of O-5 or below.

(B) The first Commander with UCMJ authority in the chain of command, or his or her designee, for eligible Service members in the rank of O-6 and above.

(ii) If during the review a Service member is determined to be incapable of meeting the CRS or has gaps in the ITP, the TAP staff will introduce the member to the necessary resources to assist him or her in becoming career ready. Resources include remedial skills building via the Transition GPS curricula, one-on-one assistance from TAP staff, and assistance from installation or local community resources.

(iii) Service members will document the point of contact name, phone number, and email address of remedial resources on the ITP.

(2) Stage Two—Capstone verification. The eligible Service member's Commander or his or her designee will review the ITP, CRS deliverables, and DD Form 2958 during Capstone verification to determine whether the requirements to complete the CRS have been attained.

(i) In cases where Service members are still not able to meet the CRS during Capstone verification, the Commander or his or her designee will initiate a warm handover to appropriate partner agencies or local resources for post-separation support in the community where the Service member plans to relocate; and

(ii) The Commander or his or her designee will confirm the warm handover has occurred by documenting it on the DD Form 2958.

(3) Completion of Capstone. Service members are to be counseled on their ITPs during Capstone. If they do not have a viable ITP or meet CRS, they will be referred to further training and services, as needed; and connected, as needed, to appropriate interagency parties and local resources that provide continued benefits, services, and support when they become veterans.

(b) Timeline. (1) Capstone will be completed for each eligible Service member in accordance with the timeline prescribed within this appendix to verify the member has met the CRS before separation, retirement, or release from active duty.

(2) Capstone will be completed no later than 90 days preceding an anticipated separation, retirement, or release from active duty for eligible Service members.

(3) Exceptions to this timeline are:

(i) In the case of eligible AC Service members with an unanticipated separation of 89 days or fewer before discharge or release from active duty, Capstone will begin no later than the date of separation as reflected on the DD Form 214.

(ii) In the case of eligible RC members release from active duty, in which operational requirements, as determined by the Secretary concerned, make the prescribed timeline unfeasible, Capstone will begin no later than the date of release from active duty as reflected on the DD Form 214.

Appendix I to Part 88—Data, Information Collection, Data Sharing, and Management Portfolio

(a) Data. Individual eligible Service member Transition GPS data and attendance will be stored in the DMDC-provided Web service capabilities for:

(1) DD Forms 2648 or 2648-1;

(2) Transition Overview;

(3) Resilient Transitions;

(4) MOC Crosswalk;

(5) Personal Financial Planning for Transition;

(6) VA Benefits Briefings I and II;

(7) DOLEW;

(8) ITP Review;

(9) Tracks;

(10) ITP Checklist; and

(11) Participant Assessment.

(b) Data sharing. (1) Specific information regarding data collection, data sharing, assessments, and evaluations can be found in the MOU among DOD, VA, DOL, ED, DHS, SBA, and OPM, “Transition Assistance Program for Separating Service Members”. This reference serves as the basis of an information sharing agreement between the interagency parties and the DoD.

(2) TVPO will oversee and coordinate sharing requirements and authorities for DoD TAP data with interagency parties, as applicable.

(3) DMDC will process, store, host, and maintain data and coordinate data sharing on request that meets established DoD information assurance standards in accordance with this appendix and 32 CFR part 310.

(4) Each organization requesting TAP data sharing will prepare a business case to support the purpose and type of data requested from other parties.

(i) The business case will clearly articulate how the requested data enables the parties to meet their mission and better serve Service members and veterans.

(ii) The business case will be submitted to TVPO for review and approval.

(iii) Approved business cases will be submitted to DMDC to set up business processes and cost sharing arrangements.

(5) To ensure protection of PII and privacy:

(i) The DoD Components and interagency parties will share Service member information in accordance with 32 CFR part 310 and requirements for collecting, sharing, storing, and maintaining PII. They will meet the need, if required, to establish a system of records notification; and

(ii) All official procedures for safeguarding and retaining PII will be followed as established in 32 CFR part 310.

(c) Management Portfolio. (1) DoD TAP data and information requirements governed by this appendix will be reviewed by TVPO for alignment to the investment and IT portfolios to ensure no duplication of capability or system redundancies occur during requirement development or IT acquisition.

(2) TAP data will be shared in a standard form for the enterprise to facilitate compliance verification and to measure effectiveness of the program.

Dated: November 23, 2015.
Aaron Siegel,
Alternate OSD Federal Register Liaison Officer, Department of Defense.

[FR Doc. 2015-30240 Filed 11-27-15; 8:45 am]

BILLING CODE 5001-06-P